NATIONAL SCIENCE FOUNDATION

Agency Information Collection Activities: Comment Request

AGENCY: National Science Foundation.

ACTION: Submission for OMB review; comment request.

SUMMARY: Under the Paperwork Reduction Act of 1995, Pub. L. 104-13 (44 U.S.C. 3501 et seq.), and as part of its continuing effort to reduce paperwork and respondent burden, the National Science Foundation (NSF) is inviting the general public and other Federal agencies to comment on this proposed information collection. This is the second notice for public comment; the first was published in the Federal Register at 68 FR 64372 and no comments were received. NSF is forwarding the proposed submission to the Office of Management and Budget (OMB) for clearance simultaneously with the publication of this second notice.

DATES: Comments regarding this information collection are best assured of having their full effect if received by OMB within thirty days.

ADDRESSES: Written comments regarding (a) Whether the collection of information is necessary for the proper performance of the functions of NSF, including whether the information will have practical utility; (b) the accuracy of NSF's estimate of burden including the validity of the methodology and assumptions used; (c) ways to enhance the quality, utility, and clarity of the information to be collected; or (d) ways to minimize the burden of the collection of information on those who are to respond, including through the use of appropriate automated, electronic, mechanical, or other technological collection techniques or other forms of information technology should be addressed to: Office of Information and Regulatory Affairs of OMB, Attention: Desk Officer for Statistical Data Collection for National Science Foundation, 725-17th Street, NW., Room 10235, Washington, DC 20503, and to Suzanne H. Plimpton, Reports Clearance Officer, National Science Foundation, 4201 Wilson Blvd., Rm. 295, Arlington, VA 22230, or by e-mail to splimpto@nsf.gov. Copies of the submission may be obtained by calling (703) 292-7556.

FOR FURTHER INFORMATION CONTACT: Suzanne H. Plimpton, NSF Reports Clearance Officer, at (703) 292-7556, or e-mail to splimpto@nsf.gov. Individuals who use a telecommunications device for the deaf (TDD) may call the Federal Information Relay Service (FIRS) at 1-800-877-8339 between 8 a.m. and 8 p.m., Eastern time, Monday through Friday.

An agency may not conduct or sponsor a collection of information unless the collection of information displays a valid OMB control number and the agency informs potential persons who are to respond to the collection of information that such persons are not required to respond to the collection of information unless it displays a currently valid OMB control number.

SUPPLEMENTARY INFORMATION: Title of Collection: Data Collection on Public Understanding of Science and Technology (OMB) Control No. 3145-new).

Use of the Information. For over twenty years, the National Science Foundation (NSF) has conducted a series of surveys to collect information about public attitudes toward and understanding of science and technology. NSF plans to collect data on a limited number of key questions to maintain the continuity of its time series data and alert policy officials to significant changes, if any, in historic levels of public understanding and/or support for science and technology.

The primary immediate use of the date will be in Science and Engineering Indicators-2006, a biannual statistical report from the National Science Board to the President and Congress on the state of science and engineering in the United States. The report includes a chapter on public understanding of and attitudes toward science and technology. Science and Engineering Indicators is used extensively by officials and researchers in government, education, industry, and professional and nonprofit associations both in the United States and abroad.

Expected Respondents. The survey will be conducted by telephone. Approximately 2000 adults will be contacted and asked a series of questions designed to measure their understanding of scientific concepts and their attitudes toward science and technology.

Burden on the Public. The estimated respondent burden is 500 hours. NSF will add questions averaging 15 minutes of survey time to 2000 interviews to be conducted as part of the University of Michigan Survey of Consumer Attitudes. This computes to 500 public burden hours in 2004.

Dated: January 27, 2004.
Teresa R. Pierce,
Reports Clearance Officer, National Science Foundation.

[FR Doc. 04-2024 Filed 1-30-04; 8:45 am]

BILLING CODE 7555-01-M